DEPARTMENT OF HOMELAND SECURITY

Coast Guard

33 CFR Part 117

[Docket No. USCG-2010-0775]

Drawbridge Operation Regulation; Atlantic Intracoastal Waterway, Wrightsville Beach, NC and Northeast Cape Fear River, Wilmington, NC

AGENCY: Coast Guard, DHS.

ACTION: Notice of temporary deviation from regulations.

SUMMARY: The Commander, Fifth Coast Guard District, has issued a temporary deviation from the regulation governing the operation of two North Carolina Department of Transportation (NCDOT) drawbridges: The S.R. 74 Bridge, across the Atlantic Intracoastal Waterway, mile 283.1, at Wrightsville Beach, NC, and the Isabel S. Holmes Bridge across the Northeast Cape Fear River, mile 1.0, at Wilmington, NC. The deviation is necessary to accommodate distance races. This deviation allows the bridges to remain in the closed position during the races.

DATES: This deviation is effective from 7 a.m. through 11:59 p.m. on November 13, 2010.

ADDRESSES: Documents mentioned in this preamble as being available in the docket are part of docket USCG-2010-0775 and are available online by going to http://www.regulations.gov, inserting USCG-2010-0775 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Lindsey Middleton, Coast Guard; telephone 757-398-6629, e-mail Lindsey.R.Middleton@uscg.mil. If you have questions on viewing the docket, call Renee V. Wright, Program Manager, Docket Operations, telephone 202-366-9826.

SUPPLEMENTARY INFORMATION: The Wilmington Family YMCA on behalf of the NCDOT requested a temporary deviation from the current operating regulations of the S.R. 74 Bridge across the Atlantic Intracoastal Waterway (AIWW), mile 283.1, at Wrightsville Beach and the Isabel S. Holmes Bridge across the Northeast Cape Fear River, mile 1.0, at Wilmington. The current operating schedules for the aforementioned bridges are set out in 33 CFR 117.821(a) (4) and 33 CFR 117.829(a) respectively. The requested deviation is to accommodate the Third Annual Beach2Battleship Iron and Half-Iron distance Triathlons scheduled for Saturday, November 13, 2010.

The S.R. 74 Bridge at Wrightsville Beach is a lift drawbridge with a vertical clearance of 20 feet above mean high water (MHW) in the closed position. The Isabel S. Holmes Bridge at Wilmington is a lift drawbridge with a vertical clearance of 40 feet above MHW in the closed position. Vessels that can pass under the bridge in the closed-to-navigation position can do so at any time. The bridge will not be able to open for emergencies.

The Coast Guard will inform the users of the waterways through our Local and Broadcast Notices to Mariners of the two bridge closures so that vessels can arrange their transits to minimize any impact caused by the temporary deviation. There are no alternate routes available to vessel traffic.

To facilitate the races, the drawbridges will be maintained in the closed-to-navigation position on November 13, 2010, at the following times: From 7 a.m. to 10:30 a.m. for the S.R. 74 Bridge and from 12 p.m. to 11:59 p.m. for the Isabel S. Holmes Bridge.

In accordance with 33 CFR 117.35(e), the drawbridge must return to its regular operating schedule immediately at the end of the designated time period. This deviation from the operating regulations is authorized under 33 CFR 117.35.

Dated: August 12, 2010.
Waverly W. Gregory, Jr.,
Chief, Bridge Administration Branch, Fifth Coast Guard District.

[FR Doc. 2010-21300 Filed 8-25-10; 8:45 am]

BILLING CODE 9110-04-P